DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number 1660-0073, FEMA Form 089-10, FEMA Form 089-11, FEMA Form 089-12, FEMA Form 089-13, FEMA Form 089-14, FEMA Form 089-15.

SUMMARY: The Federal Emergency Management Agency, as part of its continuing effort to reduce paperwork and respondent burden, invites the general public and other Federal agencies to take this opportunity to comment on a revised information collection. In accordance with the Paperwork Reduction Act of 1995, this notice seeks comments concerning the National Urban Search and Rescue (US&R) Cooperative Agreement program.

SUPPLEMENTARY INFORMATION: Section 303 of the Robert T. Stafford Disaster Relief and Emergency Assistance Act (Stafford Act), 42 U.S.C. 5144, authorizes the President of the United States to form emergency Support teams of Federal personnel to be deployed in an area affected by a major disaster or emergency. Section 403(a)(3)(B) of the Stafford Act provides that the President may authorize Federal agencies to perform work on public or private lands essential to save lives and protect property, including search and rescue and emergency medical care, and other essential needs. FEMA established the National Urban Search and Rescue Response System (US&R) under these authorities. The information collection activity authorized under 44 CFR part 208 is the collection of program and administrative information from US&R Sponsoring Organizations relating to preparedness and response Cooperative Agreement awards.

Collection of Information

Title: National Urban Search and Rescue Grant Program.

Type of Information Collection: Revision of a currently approved collection.

OMB Number: 1660-0073.

Form Numbers: FEMA Form 089-10, Narrative Statement, FEMA Form 089-11, Performance Reports, FEMA Form 089-12, Extensions/Budget Changes, FEMA Form 089-13, Memorandum of Agreement Revisions, FEMA Form 089-14, Self Evaluations, FEMA Form 089-15, Task Force Deployment Data.

Abstract: The information collection activity is the collection of financial, program and administrative information for US&R Sponsoring Organizations relating to preparedness and response Cooperative Agreement awards. This information includes a narrative statement that FEMA uses to evaluate a grantee's proposed use of funds, progress reports to monitor overall progress on managing FEMA grant program, extension or change requests used to consider changing or extending the time or the performance period of the preparedness or response cooperative agreement, evaluation and information to assess and ensure operational readiness and a memorandum of agreement between DHS/FEMA and the Sponsoring Organizations of US&R task forces.

Affected Public: State, Local or Tribal Government, Not-for-profit institutions.

Estimated Total Annual Burden Hours: 476 hours.

Table A.12: Estimated Annualized Burden Hours and Costs
Type of respondent | Form name/form number | Number of respondents | Number of responses per respondent | Avg. burden per response (in hours) | Total annual burden (in hours) | Avg. hourly wage rate ($) | Total annual respondent cost ($)
State, Local or Tribal Government (US&R Task Forces) | Narrative Statement/FEMA Form 10 | 28 | 1 | 4 | 112 | 32.67 | 3,659
State, Local or Tribal Government (US&R Task Forces) | Performance Reports/FEMA Form 11 | 28 | 2 | 2 | 112 | 32.67 | 3,659
State, Local or Tribal Government (US&R Task Forces) | Extensions/Budget Changes/FEMA Form 12 | 28 | 2 | 1 | 56 | 32.67 | 1,830
State, Local or Tribal Government (US&R Task Forces) | Memorandum of Agreement Revisions/FEMA Form 13 | 28 | 1 | 4 | 112 | 32.67 | 3,659
State, Local or Tribal Government (US&R Task Forces) | Self Evaluations/FEMA Form 14 | 28 | 1 | 2 | 56 | 32.67 | 1,830
State, Local or Tribal Government (US&R Task Forces) | Task Force Deployment Data/FEMA Form 15 | 28 | 1 | 1 | 28 | 32.67 | 915
Total |  | 28 |  |  | 476 |  | 15,552

Estimated Cost: The estimated annualized cost to respondents based on wage rate categories is $15,552. The estimated annual cost to the Federal Government is $171,000.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before March 24, 2009.

ADDRESSES: Interested persons should submit written comments to Office of Management, Records Management Division, Federal Emergency Management Agency, 500 C Street, SW., Washington, DC 20472, Mail Drop Room 301.

FOR FURTHER INFORMATION CONTACT: Contact Wanda Casey, Chief, Program Management Section, National Urban Search and Rescue Program, (202) 646-4013 for additional information. You may contact the Records Management Branch for copies of the proposed collection of information at facsimile number (202) 646-3347 or e-mail address: FEMA-Information-Collections@dhs.gov.

Samuel C. Smith,
Acting Director, Records Management Division, Office of Management, Federal Emergency Management Agency, Department of Homeland Security.

[FR Doc. E9-1284 Filed 1-22-09; 8:45 am]

BILLING CODE 9110-69-P